DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance
[12/09/2010 through 1/6/2011]
Firm name | Address | Date accepted for investigation | Products
BB Diversified Services, Ltd. dba IceAge Manufacturing, Inc | 34621 Highway 11 West, Roseau, MN 56751 | 09-Dec-10 | The firm manufactures rails, A-arms, axels and various other components for snowmobiles.
Concept Works, Inc | W3126 State Highway 32, Elkhart Lake, WI 53020 | 28-Dec-10 | The firm manufactures industrial products, displays, commercial furnishings and other custom products.
Green Gear Cycling, Inc dba Bike Friday | 3364 West 11th Street, Eugene, OR 97402 | 05-Jan-11 | The firm manufacturers bicycles, specifically designed for ease of travel (folding bicycles).
J. R. Setina Manufacturing Company, Inc | 2926 Yelm Highway, SE., Olympia, WA 98501 | 06-Jan-11 | The firm manufactures parts and accessories of motor vehicle bodies.
Jensen Tuna Inc | 5885 Highway 311, Houma, LA 70360 | 06-Jan-11 | The firm processes fresh fish from basic cleaning to custom cuts and packaging.
Matson Industries, Inc | 132 Main Street, Brookville, PA 15825 | 06-Jan-11 | The firm manufactures furniture grade hardwood lumber and logs.
Quality Metal Finishing Co | 421 N. Walnut Street, Byron, IL 61010 | 21-Dec-10 | The firm manufactures chrome plated zinc castings such as kitchen faucets, commercial hardware, bathroom fixtures and motorcycle components.
RW Chang & Co. Inc | 1202 Fountain Parkway, Grand Prairie, TX 75050 | 05-Jan-11 | The firm performs glass cutting, mat cutting, mounting, stretching and fitting of frames.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: January 6, 2011.
Bryan Borlik,
Program Director.

[FR Doc. 2011-503 Filed 1-11-11; 8:45 am]

BILLING CODE 3510-24-P